DEPARTMENT OF THE INTERIOR

National Park Service

Notice of Inventory Completion: Peabody Museum of Archaeology and Ethnology, Harvard University, Cambridge, MA

AGENCY: National Park Service, Interior.

ACTION: Notice.

Notice is here given in accordance with the Native American Graves Protection and Repatriation Act (NAGPRA), 25 U.S.C. 3003, of the completion of an inventory of human remains in the possession of the Peabody Museum of Archaeology and Ethnology, Harvard University, Cambridge, MA. The human remains were removed from Middlesex and Worcester Counties, MA.

This notice is published as part of the National Park Service’s administrative responsibilities under NAGPRA, 25 U.S.C. 3003 (d)(3). The determinations within this notice are the sole responsibility of the museum, institution, or Federal agency that has control of the Native American human remains. The National Park Service is not responsible for the determinations within this notice.

A detailed assessment of the human remains was made by Peabody Museum of Archaeology and Ethnology professional staff in consultation with officials of Nipmuc Nation (a nonfederally recognized Indian group) and Wampanoag Repatriation Confederation, representing Wampanoag Tribe of Gay Head (Aquinnah), Mashpee Wampanoag Indian Tribe (a nonfederally recognized Indian group), and Assonet Band of the Wampanoag Nation (a nonfederally recognized Indian group).

In 1878, human remains representing one individual were collected by A.F. Aldrich from Uxbridge, Worcester County, MA, and were donated by Mr. Aldrich to the Peabody Museum of Archaeology and Ethnology. No known individual was identified. No associated funerary objects are present.

Osteological characteristics indicate that the individual is Native American. Museum documentation indicates that a tin box containing cloth and a thimble were located with the human remains; these objects date the interment to the Historic or Contact periods (post-A.D. 1500). The objects are not in the possession of the Peabody Museum of Archaeology and Ethnology and their location is unknown. Archeological, historical, and ethnographic sources, along with consultation with regional Native American groups, indicate that this region of Massachusetts was the aboriginal homelands of the Nipmuc Nation during the Historic and Contact periods.

In 1890, human remains representing one individual were collected by Adams Tolman from Concord, Middlesex County, MA, and were donated by Mr. Tolman to the Peabody Museum of Archeology and Ethnology. No known individual was identified. No associated funerary objects are present.

Osteological characteristics indicate that the individual is Native American. The pattern of copper stains present on the human remains indicates that they were interred sometime after European contact (circa A.D. 1500). Archeological, historical, and ethnographic sources, along with consultation with regional Native American groups, indicate that during the Historic and Contact periods this area of Massachusetts was the border region between the Nipmuc Nation and the Massachusett people. Because there is no known present-day tribe representing the Massachusett people, shared group identity may be reasonably traced only to the Nipmuc Nation.

The Peabody Museum of Archaeology and Ethnology has determined that the human remains described in this notice cannot be affiliated with an Indian tribe according to the definition of cultural affiliation at 25 U.S.C. 3001 (2), and are considered culturally unidentifiable. According to the Native American Graves Protection and Repatriation Review Committee’s charter, the Review Committee is responsible for recommending specific actions for disposition of culturally unidentifiable human remains. In October 1998, the Peabody Museum of Archaeology and Ethnology presented a disposition proposal to the Review Committee to repatriate two culturally unidentifiable human remains to the Nipmuc Nation. The proposal was considered by the Review Committee at its December 1998 meeting.

The Review Committee recommended disposition of the human remains to the Nipmuc Nation contingent upon the museum’s meeting two requirements. A January 11, 2000, letter from the National Park Service to the Peabody Museum of Archaeology and Ethnology requested that the museum publish a Notice of Inventory Completion in the Federal Register, and that it consider documentation compiled as part of the inventory process as public information and available for educational and scientific uses. The two requirements will have been met with the publication of this notice in the Federal Register.

Officials of the Peabody Museum of Archaeology and Ethnology have determined that, pursuant to 25 U.S.C. 3001 (9-10), the human remains described above represent the physical remains of two individuals of Native American ancestry. Officials of the Peabody Museum of Archaeology and Ethnology also have determined that, pursuant to 25 U.S.C. 3001 (2), there is a relationship of shared group identity that can be reasonably traced between the Native American human remains and the Nipmuc Nation.

Representatives of any other Indian tribe that believes itself to be culturally affiliated with the human remains should contact Diana Loren, Acting Repatriation Coordinator, Peabody Museum of Archaeology and Ethnology, Harvard University, 11 Divinity Avenue, Cambridge, MA 02138, telephone (617) 495-4125, before September 2, 2003. Repatriation of the human remains to the Nipmuc Nation may proceed after that date if no additional claimants come forward.

Peabody Museum of Archeology and Ethnology is responsible for notifying Nipmuc Nation (a nonfederally recognized Indian group) and Wampanoag Repatriation Confederation, representing Wampanoag Tribe of Gay Head (Aquinnah), Mashpee Wampanoag Indian Tribe (a nonfederally recognized Indian group), and Assonet Band of the Wampanoag Nation (a nonfederally recognized Indian group) that this notice has been published.

Dated: May 29, 2003.
John Robbins,
Assistant Director, Cultural Resources.

[FR Doc. 03-18705 Filed 7-31-03; 8:45 am]

BILLING CODE 4310-70-S